DEPARTMENT OF ENERGY

10 CFR Part 431

[Docket No. EERE-2010-BT-STD-0027]

RIN 1904-AC28

Energy Conservation Program for Certain Commercial and Industrial Equipment: Framework Document for Commercial and Industrial Electric Motors

AGENCY: Office of Energy Efficiency and Renewable Energy, Department of Energy.

ACTION: Notice of extension of comment period.

SUMMARY: This notice announces an extension of the time period for submitting written comments on the framework document for certain commercial and industrial electric motors. The comment period is extended to November 24, 2010.

DATES: The comment period for the framework document for certain commercial and industrial electric motors, referenced in the notice of public meeting and availability published on September 28, 2010 (75 FR 59657), is extended to November 24, 2010.

ADDRESSES: Interested persons are encouraged to submit comments using the Federal eRulemaking Portal at http://www.regulations.gov. Follow the instructions for submitting comments. Alternatively, interested persons may submit comments, identified by docket number EERE-2010-BT-STD-0027, by any of the following methods:

• E-mail: ElecMotors-2010-STD-0027@ee.doe.gov. Include docket number EERE-2010-BT-STD-0027 in the subject line of the message.

• Mail: Ms. Brenda Edwards, U.S. Department of Energy, Building Technologies Program, Mailstop EE-2J, Framework Document for Electric Motors, EERE-2010-STD-0027, 1000 Independence Avenue, SW., Washington, DC 20585-0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

Instructions: All submissions received must include the agency name and docket number or RIN for this rulemaking. Note that all comments received will be posted without change, including any personal information provided.

Docket: For access to the docket to read background documents, or comments received, go to the Federal eRulemaking Portal at http://www.regulations.gov.

FOR FURTHER INFORMATION CONTACT: Mr. James Raba, 202-586-8654, e-mail: Jim.Raba@ee.doe.gov, Ms. Ami Grace-Tardy, 202-586-5709, e-mail: Ami.Grace-Tardy@hq.doe.gov.

SUPPLEMENTARY INFORMATION:

The U.S. Department of Energy (DOE) published a document in the Federal Register on September 28, 2010, concerning a public meeting and availability of a framework document initiating the rulemaking process to amend the energy conservation standards for certain commercial and industrial electric motors. DOE seeks comment from interested parties on the procedural and analytical approaches it anticipates using to evaluate energy conservation standards for commercial and industrial electric motors, which are addressed in the framework document, available at http://www1.eere.energy.gov/buildings/appliance_standards/commercial/electric_motors.html. The framework document is the starting point for potentially amending the energy conservation standards for electric motors prescribed in the Energy Policy and Conservation Act of 1975, as amended, (EPCA) and codified in Title 10 of the Code of Federal Regulations, Part 431. The notice of public meeting and availability of the framework document published on September 28, 2010 (75 FR 59657) informed interested parties that DOE would accept written comments on the framework document no later than October 28, 2010.

The National Electrical Manufacturers Association (NEMA), American Council for an Energy-Efficient Economy (ACEEE), and the Appliance Standards Awareness Project (ASAP) requested a comment deadline extension of two weeks after the transcript of the October 18, 2010, framework document public meeting is posted on-line and available for public review.

Based on the joint request from NEMA, ACEEE, and ASAP, DOE believes that extending the comment period to allow additional time for interested parties to submit comments is appropriate. Therefore, DOE is extending the comment period until November 24, 2010, to provide interested parties additional time to prepare and submit comments. DOE will accept comments received no later than November 24, 2010 and will not consider any further extensions to the comment period. If DOE receives any comments after October 28, 2010, but before the date of publication of this notice in the Federal Register, DOE will consider those comments to be timely filed.

Issued in Washington, DC, on October 28, 2010.
Cathy Zoi,
Assistant Secretary, Energy Efficiency and Renewable Energy.

[FR Doc. 2010-27741 Filed 11-2-10; 8:45 am]

BILLING CODE 6450-01-P